DEPARTMENT OF THE INTERIOR

Bureau of Land Management

43 CFR Part 2560

[WO-350-1410-00-24 1A]

RIN 1004-AD60

Alaska Native Veteran Allotments

Correction

In rule document 06-7661 beginning on page 54199 in the issue of Thursday, September 14, 2006, make the following correction:

On page 54200, in the first column, under the DATES heading, in the second line, “October 16, 2003.” should read “October 16, 2006.”.

[FR Doc. C6-7661 Filed 9-25-06; 8:45 am]

BILLING CODE 1505-01-D

DEPARTMENT OF THE INTERIOR

Bureau of Reclamation

Proposed Water Service Contract, El Dorado County Water Agency, El Dorado County, CA

Correction

In notice document 06-7705 beginning on page 54519 in the issue of Friday, September 15, 2006, make the following correction:

On page 54519, in the second column, under FOR FURTHER INFORMATION CONTACT, in the fifth line, “(16)989-7279” should read “(916)989-7279”.

[FR Doc. C6-7705 Filed 9-25-06; 8:45 am]

BILLING CODE 1505-01-D

SECURITIES AND EXCHANGE COMMISSION

17 CFR Part 229

[Release Nos. 33-8732A; 34-54302A; IC-27444A; File No. S7-03-06]

RIN 3235-AI80

Executive Compensation and Related Person Disclosure

Correction

In rule document 06-6968 beginning on page 53158 in the issue of Friday, September 8, 2006, make the following correction:

§ 229.402 [Corrected]

On page 53249, in § 229.402(i)(1), in the table, in the third column heading, in the third line, “ast” should read “last”.

[FR Doc. C6-6968 Filed 9-25-06; 8:45 am]

BILLING CODE 1505-01-D

DEPARTMENT OF THE TREASURY

Internal Revenue Service

26 CFR Part 301

[TD 9284]

RIN 1545-BC72

Collection After Assessment

Correction

In rule document E6-14610 beginning on page 52444 in the issue of Wednesday, September 6, 2006, make the following correction:

On page 52444 in the second column under the DATES heading, after Effective Date: the text should read as follows: “These regulations are effective September 6, 2006.”.

[FR Doc. Z6-14610 Filed 9-25-06; 8:45 am]

BILLING CODE 1505-01-D